DEPARTMENT OF LABOR

Employment and Training Administration

Proposed Information Collection Request Submitted for Public Comment and Recommendations; National Rapid Response Information Network

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(A)]. This program helps to ensure that requested data can be provided in the desired format, reporting burden (time and financial resources) is minimized, collection instruments are clearly understood, and the impact of collection requirements on respondents can be properly assessed. Currently, the Employment and Training Administration, Office of National Response is soliciting comments concerning the proposed information collection request (ICR) for the National Rapid Response Network. A copy of the proposed ICR is available at this site: http://www.doleta.gov/Performance/guidance/OMBControlNumber.cfm.

DATES: Written comments must be submitted to the office listed in the addressee's section below on or before March 21, 2006.

ADDRESSES: Jeff Ryan, U.S. Department of Labor, Employment and Training Administration, Room C-5325, 200 Constitution Avenue, NW., Washington, DC 20210, Phone: (202) 693-3546 (this is not a toll-free number), Fax: (202) 693-3149, e-mail: ryan.jeff@dol.gov.

SUPPLEMENTARY INFORMATION:

I. Background

As part of its responsibility for the administration and oversight of activities carried out under the Workforce Investment Act of 2000 (WIA), ETA has designed a Rapid Response Information Network (RRIN). This electronic reporting system will allow users to easily input data regarding layoffs and layoff related information through a secure Web site.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Regular.

Agency: Office of National Response.

Title: National Rapid Response Information Network.

OMB Number: 1205-XXX.

Agency Form Numbers: ETA 9119A, B, C.

Recordkeeping: 0.

Affected Public: State, local, or tribal government.

Total Respondents: 53.

Estimated Total Burden Hours: 3274 hours.

Total Burden Cost (capital/startup): $0.

Total Burden Cost (operating/maintaining): $0.

Comments submitted in response to this comment request will be summarized and/or included in the request for Office of Management and Budget approval of the information collection request; they will also become a matter of public record.

Dated: January 11, 2006.
Emily Stover DeRocco,
Assistant Secretary for Employment and Training.

[FR Doc. E6-645 Filed 1-19-06; 8:45 am]

BILLING CODE 4510-30-P